DEPARTMENT OF DEFENSE

Department of the Air Force

HQ USAF Scientific Advisory Board

AGENCY: Department of the Air Force, DoD.

ACTION: Notice of meeting.

SUMMARY: Pursuant to Public Law 92-463, notice is hereby given of the forthcoming meeting of the 2004 Science and Technology Quality Review Panel. The purpose of the meeting is to allow the Air Force Scientific Advisory Board to assess the quality and long-term relevance of Air Force Research Laboratory Special Program research. Because classified and contractor-proprietary information will be discussed, this meeting will be closed to the public.

DATES: 15-18 November 2004.

ADDRESSES: Wright-Patterson Air Force Base, OH.

FOR FURTHER INFORMATION CONTACT: Major Kyle Gresham, Air Force Scientific Advisory Board Secretariat, 1180 Air Force Pentagon, Rm. 5D982, Washington, DC 20330-1180, (703) 697-4808.

Pamela D. Fitzgerald,
Air Force Federal Register Liaison Officer.

[FR Doc. 04-22443 Filed 10-5-04; 8:45 am]

BILLING CODE 5001-05-P